DEPARTMENT OF ENERGY

Federal Energy Regulatory Commission

[Project No. 2960-006]

City of Gonzales; Notice of Application Tendered for Filing With the Commission and Establishing Procedural Schedule for Licensing and Deadline for Submission of Final Amendments

Take notice that the following hydroelectric application has been filed with the Commission and is available for public inspection.

a. Type of Application: Subsequent License.

b. Project No.: 2960-006.

c. Date Filed: July 27, 2018.

d. Applicant: City of Gonzales.

e. Name of Project: Gonzales Hydroelectric Project (Gonzales Project).

f. Location: The existing project is located at river mile 167 on the Guadalupe River in the City of Gonzales, in Gonzales County, Texas. The project does not affect federal lands.

g. Filed Pursuant to: Federal Power Act, 16 U.S.C. 791 (a)-825(r).

h. Applicant Contact: Tim Patek, Superintendent of Public Works, City of Gonzales, 1920 St. Joseph Street, Gonzales, TX 78629; Telephone (830) 672-3192; tpatek@gonzales.texas.gov.

i. FERC Contact: Rachel McNamara at (202) 502-8340, or at rachel.mcnamara@ferc.gov.

j. This application is not ready for environmental analysis at this time.

k. Project Description: The Gonzales Project consists of: (1) A 15-foot-high, 258-foot-long, concrete Ambursen dam with a 178-foot-long ogee-type spillway; (2) a reservoir with a surface area of 300 acres and a storage capacity of 1,400 acre-feet; (3) an intake structure comprised of six wooden water control gates; (4) an 80-foot-long, 20-foot-wide brick powerhouse containing three generating units with a total capacity of 1,140 kilowatts; (5) two 50-foot-long underground 5-kilovolt cables to a step-up transformer; and (6) an above-ground transmission line connecting the step-up transformer to a distribution line near the access road to the project. The Gonzales Project is a conventional project generating 1,314 megawatt-hours of electricity annually.

The project is operated as a run-of-river facility with no impoundment fluctuation. When flows exceed the minimum flow requirement of 200 cubic feet per second (cfs) and a minimum of 9 feet of head height is achieved, generation can commence. When flows exceed the combined capacity of all three turbines (1,161 cfs), excess flows are passed over the spillway dam.

l. A copy of the application is available for review at the Commission in the Public Reference Room or may be viewed on the Commission's website at http://www.ferc.gov, using the “eLibrary” link. Enter the docket number, excluding the last three digits in the docket number field, to access the document. For assistance, contact FERC Online Support at FERCOnlineSupport@ferc.gov, or toll free at (866) 208-3676, or for TTY at (202) 502-8659. A copy is also available for inspection and reproduction at the address in paragraph h.

You may also register online at http://www.ferc.gov/docs-filing/esubscription.asp to be notified via email of new filings and issuances related to this or other pending projects. For assistance, contact FERC Online Support.

m. Procedural Schedule: The application will be processed according to the following preliminary Hydro Licensing Schedule. Revisions to the schedule will be made as appropriate.

Milestone | Target Date
Notice of Acceptance/Notice of Ready for Environmental Analysis | October 2018.
Filing of recommendations, preliminary terms and conditions, and fishway prescriptions | December 2018.
Commission issues EA | April 2019.
Comments on EA | May 2019.
Modified Terms and Conditions | July 2019.

n. Final amendments to the application must be filed with the Commission no later than 30 days from the issuance date of the notice of ready for environmental analysis.

Dated: August 6, 2018.
Kimberly D. Bose,
Secretary.

[FR Doc. 2018-17306 Filed 8-10-18; 8:45 am]

BILLING CODE 6717-01-P